DEPARTMENT OF HOUSING AND URBAN DEVELOPMENT

[Docket No. FR-5486-N-26]

Notice of Proposed Information Collection for Public Comment on the: Study of Public Housing Agencies' Engagement With Homeless Households

AGENCY: Office of Policy Development and Research, HUD.

ACTION: Notice of proposed information collection.

SUMMARY: The proposed information collection requirement described below will be submitted to the Office of Management and Budget (OMB) for review, as required by the Paperwork Reduction Act of 1995, Public Law 104-13 (44 U.S.C. 3506(c)(2)(A)). The Department is soliciting public comments on the subject proposal.

DATES: Comments Due Date: January 13, 2012.

ADDRESSES: Interested persons are invited to submit comments regarding this proposal. Comments should refer to the proposal by name and/or OMB Control Number and should be sent to: Reports Liaison Officer, Office of Policy Development and Research, Department of Housing and Urban Development, 451 7th Street SW., Room 8234, Washington, DC 20410.

FOR FURTHER INFORMATION CONTACT: Anne Fletcher at (202) 402-4347 (this is not a toll-free number). Copies of the proposed forms and other available documents submitted to OMB may be obtained from Ms. Fletcher.

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology that will reduce burden, (e.g., permitting electronic submission of responses).

This Notice also lists the following information:

Title of Proposal: Study of Public Housing Agencies' Engagement with Homeless Households.

OMB Control Number: XXXX-pending.

Description of the need for the information and proposed use: This information collection will support research that will explore and document how public housing agencies (PHAs) currently serve and interact with homeless households, to achieve the following: (1) Establish a baseline level of PHAs' current engagement in serving homeless households, (2) document the practices of PHAs that have an explicit preference for homeless households; (3) explore PHA perceptions of barriers to, or concerns about, increasing the number of homeless households served or targeting homeless households for priority housing assistance; and (4) identify mechanisms to address or eliminate barriers to serving homeless households in mainstream housing assistance, with a focus on the housing choice voucher (HCV) program and public housing. Findings of this study will enable the U.S. Department of Housing and Urban Development (HUD), which funds PHAs, to develop strategies to expand access to mainstream housing opportunities for homeless households that are rooted in evidence and informed by the PHAs themselves. The proposed data collection instrument is a web-based census survey that will be administered to all public housing agencies.

Members of affected public: Public housing agencies.

Estimation of the total number of hours needed to prepare the information collection including number of respondents, frequency of response, and hours of response:

Estimated Respondent Burden Hours and Costs
Form | Respondent sample | Number of respondents | Average time to complete (minimum, maximum) in minutes | Frequency | Total burden (hours)
Survey | All public housing agencies (N=4,089) | 4,089 | 20 (18-22) | 1 | 1,363

Total Burden Hours—1,363.

Respondent's Obligation: Voluntary.

Status of the proposed information collection: Pending OMB approval.

Authority: Title 13 U.S.C. Section 9(a), and Title 12, U.S.C., Section 1701z-1 et seq.

Dated: November 4, 2011.
Raphael W. Bostic,
Assistant Secretary for Policy Development and Research.

[FR Doc. 2011-29359 Filed 11-10-11; 8:45 am]

BILLING CODE 4210-67-P